ADVISORY COUNCIL ON HISTORIC PRESERVATION

Meeting

AGENCY: Advisory Council on Historic Preservation.

ACTION: Notice of meeting.

SUMMARY: Notice is hereby given that the Advisory Council on Historic Preservation will meet on Friday, March 1, 2002. The meeting will be held in Room M09 at the Old Post Office Building, 1100 Pennsylvania Avenue, NW., Washington, DC beginning at 8:30 a.m.

The Council was established by the National Historic Preservation Act of 1966 (16 U.S.C. 470) to advise the President and the Congress on matters relating to historic preservation and to comment upon Federal, federally assisted, and federally licensed undertakings having an effect upon properties listed in or eligible for inclusion in the National Register of Historic Places. The Council's members are the Architect of the Capitol; the Secretaries of the Interior, Agriculture, Defense, and Transportation; the Administrators of the Environmental Protection Agency and General Services Administration; the Chairman of the National Trust for Historic Preservation; the President of the National Conference of State Historic Preservation Officers; a Governor; a Mayor, a Native Hawaiian; and eight non-Federal members appointed by the President.

The agenda for the meeting includes the following:

I. Chairman's Welcome

II. Chairman's Report

III. Report of Executive Committee

A. Revision Council Mission Statement

B. Technical Amendments to Section 106 Regulations

IV. Report of the Preservation Initiatives Committee

A. Preservation Executive Order

B. Preservation America Initiative

C. Heritage Tourism Initiatives

V. Report of the Federal Agency Programs Committee

A. Implementation of Council's Policy Statement on Balancing Cultural and Natural Values on Federal Lands

B. Federal Program Improvement Priorities and Initiatives

VI. Report of the Communications, Education, and Outreach Committee

A. Recommendations Regarding Council Communications Audit

B. Presidential Historic Preservation Awards

C. Preservation Leadership Conference

VII. Report of the Historic Preservation and Security Task Force

A. Status of National Capital Planning Commission Report on Designing for Security in the Nation's Capital

B. Report on Washington Monument Section 106 Review

VIII. Report of the Missouri River Task Force

IX. Executive Director's Report

A. Council FY 2003 Budget Request

B. Reorganization of Council Staff

C. Section 106 Exemption for Historic Pipelines

X. New Business

XI. Adjourn

Note: The meetings of the Council are open to the public. If you need special accommodations due to a disability, please contact the Advisory Council on Historic Preservation, 1100 Pennsylvania Ave., NW., Room 809, Washington, DC, 202-606-8503, at least seven (7) days prior to the meeting.

For further information contact: Additional information concerning the meeting is available from the Executive Director, Advisory Council on Historic Preservation, 1100 Pennsylvania Ave., NW., #809, Washington, DC 20004.

Dated: February 20, 2002.
John M. Fowler,
Executive Director.

[FR Doc. 02-4439 Filed 2-22-02; 8:45 am]

BILLING CODE 4310-10-M